ENVIRONMENTAL PROTECTION AGENCY

[FRL-7555-2]

State and Tribal 8-Hour Ozone Air Quality Designation Recommendations

AGENCY: Environmental Protection Agency (EPA).

ACTION: Notice of availability.

SUMMARY: Notice is hereby given that the Environmental Protection Agency (EPA) has posted State and Tribal 8-hour Ozone Air Quality Designation Recommendations on the web as they have been received.

ADDRESSES: State and tribal recommendations are available for public inspection at EPA's Web site at: http://www.epa.gov/oar/oaqps/glo/designations/ and at the Office of Air and Radiation (OAR) Docket Center, Docket Number OAR 2003-0083, respectively.

FOR FURTHER INFORMATION CONTACT: Ms. Sharon Reinders, Office of Air Quality Planning and Standards, U.S. Environmental Protection Agency, Mail Code C539-02, Research Triangle Park, NC 27711, phone number (919) 541-5284 or by e-mail at: reinders.sharon@epa.gov or Ms. Annie Nikbakht, Office of Air Quality Planning and Standards, U.S. Environmental Protection Agency, Mail Code C539-02, Research Triangle Park, NC 27711, phone number (919) 541-5246 or by e-mail at: nikbakht.annie@epa.gov. Mr. Barry Gilbert can be contacted for Air Quality Technical Issues: Office of Air Quality Planning and Standards, U.S. Environmental Protection Agency, Mail Code C539-02, Research Triangle Park, NC 27711, phone number (919) 541--5238 or by email at: gilbert.barry@epa.gov.

SUPPLEMENTARY INFORMATION:

A. How Can I Get Copies of This Document?

1. Docket. The EPA has established an official docket for this action under Docket ID Number 2003-0083. The official public docket consists of the documents specifically referenced in this action, any public comments received, and other information related to this action. Although a part of the official docket, the public docket does not include Confidential Business Information or other information whose disclosure is restricted by statute. The official public docket is the collection of materials that is available for public viewing at the OAR Docket Center, (EPA/DC) EPA West, Room B102, 1301 Constitution Avenue, NW., Washington, DC. The EPA Docket Center Public Reading Room is open from 8:30 a.m. to 4:30 p.m., Monday through Friday, excluding legal holidays. The telephone number for the Public Reading Room is (202) 566-1744, and the telephone number for the OAR Docket is (202) 566-1742.

2. Electronic Access. You may access this Federal Register document electronically through the EPA Intranet under the Federal Register listings at http://www.epa.gov/fedrgstrl.

List of Subjects

Air pollution control, Intergovernmental relations, Ozone, Particulate matter, Transportation, Volatile organic compounds.

Authority: 42 U.S.C. 7408, 42 U.S.C. 7410, 42 U.S.C. 7501-7511f; 42 U.S.C. 7601(a)(1).

Dated: August 22, 2003.
Henry C. Thomas,
Acting Director, Office of Air Quality, Planning and Standards.

[FR Doc. 03-22767 Filed 9-5-03; 8:45 am]

BILLING CODE 6560-50-P